DEPARTMENT OF HOUSING AND URBAN DEVELOPMENT

[Docket No. FR-5763-N-11]

Implementation of the Privacy Act of 1974, as Amended; Amendment to Existing System of Records—Pay and Leave Records of Employees

AGENCY: Office of the Chief Information Officer.

ACTION: Amendment to System of Records.

SUMMARY: The Department's Office of the Chief Human Capital Officer (OCHCO) is proposing to amend its “Pay and Leave Records of Employees” system of records. The system of records consists of payroll and time and attendance systems for fulfillment of payroll, timekeeping and leave functions. The OCHCO modifies: The authority for and manner in which the Pay and Leave Records of Employees system of records operates; the categories of records in the system, the location and address of the system, the method by which records are retrieved in the system; the retention and disposal methods made of the records in the system; and adds the purpose(s) for which the records are used in the system. Additionally, as part of this update, OCHCO makes one substantive change to the system of records to authorize the forthcoming transition of HUD's time and attendance system from the Department of Agriculture's National Finance Center (NFC) to the Treasury Department's Bureau of the Fiscal Service (BFS). The routine uses are being updated to include new disclosures of personally identifiable information (PII) to Treasury's BFS and to new contract service providers to bring the system in compliance with the Privacy Act. The Treasury's BFS is a shared service provider that will gain access to payroll data and begin testing time and attendance data for migration of records, and ultimately, hosting of the time and attendance system, while the payroll function remains at NFC. The payroll and leave functions include processing all pay matters/issues (e.g., overtime, holiday pay, compensatory time, compensatory time for travel), distribution of wages, distribution of allotments and deductions to financial and other institutions, some through electronic funds transfer, timekeeper support, to maintain leave balances and provide leave processing services such as restored leave, payroll/personnel action (e.g. promotions and Reduction in Grade personnel actions), receipt amount, and administrative overpayment processing). This amended notice demonstrates the Department's present status of the information contained in the systems and new data sharing practices. Other non-substantive changes to the routine use section and throughout the document are being added to ensure compliance with the Privacy Act, 5 U.S.C. 552a. A more detailed description of the present system is contained in notice “Purpose” caption. This notice supersedes the previous notice published in the Federal Register for “HUD-34: Pay and Leave Records of Employees”.

DATES: Effective Date: The proposed modification will be effective immediately, with the exception of the migration of records to the new Treasury system and the sharing of information to new contractors, which will become effective 30 days after publication of this notice, on December 3, 2014, unless comments are received that would result in a contrary determination.

Comments Due Date: December 3, 2014.

ADDRESSES: Interested persons are invited to submit comments regarding this notice to the Rules Docket Clerk, Office of the General Counsel, Department of Housing and Urban Development, 451 Seventh Street, SW., Room 10276, Washington, DC 20410-0500. Communication should refer to the above docket number and title. A copy of each communication submitted will be available for public inspection and copying between 8:00 a.m. and 5:00 p.m. weekdays at the above address.

FOR FURTHER INFORMATION CONTACT: Donna Robinson-Staton, Chief Privacy Officer, 451 Seventh Street, SW., Washington, DC 20410 (Attention: Capitol View Building, 4th Floor), telephone number: (202) 402-8073. [This is not a toll free number.] A telecommunications device for hearing-and speech-impaired persons (TTY) is available by calling the Federal Relay Service's toll-free telephone number at (800) 877-8339.

SUPPLEMENTARY INFORMATION: This system of records is maintained by HUD's Office of the Chief Human Capital Officer. The system of records includes personally identifiable information on HUD employees' that is retrieved from the system by a name or unique identifier. Hence, this system of records encompasses programs and services of the Department's data collection and management practices. Publication of this notice allows HUD to satisfy its reporting requirement and keep an up-to-date accounting of its system of records publications. The amended system of records will incorporate Federal privacy requirements and HUD policy requirements. The Privacy Act provides certain safeguards for an individual against an invasion of personal privacy by requiring Federal agencies to protect records contained in an agency system of records from unauthorized disclosure, by ensuring that information is current and collected only for its intended use, and by providing adequate safeguards to prevent misuse of such information. Additionally, this notice demonstrates the Department's focus on industry best practices in protecting the personal privacy of the individuals covered by this system notification.

This notice states the name and location of the record system, the authority for and manner of its operations, the categories of individuals that it covers, the type of records that it contains, the sources of the information for the records, the routine uses made of the records and the type of exemptions in place for the records. In addition, this notice includes the business addresses of the HUD officials who will inform interested persons of the procedures whereby they may gain access to and/or request amendments to records pertaining to them.

This publication does meet the threshold requirements for a new and amended system and a report was submitted to the Office of Management and Budget (OMB), the Senate Committee on Homeland Security and Governmental Affairs, and the House Committee on Government Reform as instructed by Paragraph 4c of Appendix l to OMB Circular No. A-130, “Federal Agencies Responsibilities for Maintaining Records About Individuals,” July 25, 1994 (59 FR 37914).

Authority: 5 U.S.C. 552a; 88 Stat. 1896; 42 U.S.C. 3535(d).

Dated: October 28, 2014.
Mike Milazzo,
Deputy Chief Information Officer.

SYSTEM OF RECORDS NO.: OCHCO/AHFA.01

SYSTEM NAME:

Pay and Leave Records of Employees.

SYSTEM LOCATION:

Department of Housing and Urban Development, 451 Seventh Street, SW., Washington DC 20410. Department of Agriculture National Finance Center PO Box 60000, New Orleans, LA 70160, and at the service providers under contract with HUD and at the Federal agencies using the contracts. The time and attendance system is accessible by all HUD employees via HUD Intranet nationwide at HUD Field and Regional offices ¹. Backup, recovery and media records are stored in secure facilities at the Washington National Record Center, 4205 Suitland Road, Suitland, MD 20746.

¹ http://portal.hud.gov/hudportal/HUD?src=/localoffices.

CATEGORIES OF INDIVIDUALS COVERED BY THE SYSTEM:

Current and former HUD employees.

CATEGORIES OF RECORDS IN THE SYSTEM:

All categories of records in the system may include the name, work and home address, and social security number of the HUD employee. The purpose and use made of each category of records in the system are:

To administer payroll processing—records include: HUD employee number, grade, step, and salary; organization, retirement or FICA data as applicable; Federal, state, and local tax deductions; regular and optional Government life insurance deduction(s), health insurance deduction and plan or code; Thrift Savings Plan participation and contribution; cash award data; jury duty data; military leave data; pay differentials; union dues deduction; allotments by type and amount; financial institution code and employee account number; personnel/payroll data requests, retirement; jury duty data; military leave data; leave status and data of all types (including annual, compensatory, jury duty, maternity, military, retirement disability, sick, transferred, and without pay);

To administer time and attendance processing—records include: Employee number, organization, time and attendance records; leave applications and reports; individual daily time reports; adjustments to time and attendance; overtime reports, supporting data, such as medical certificates; number of regular, overtime, holiday, Sunday, and other hours worked; pay period number and ending dates; both internal/external pay/leave inquiries and request pertaining to time and attendance; information and/or supporting documentation about the inquiries and problems received.

To administer garnishment and levy orders—records include: Orders served upon HUD for implementation, court orders, correspondence, and memoranda issued by a court of competent jurisdiction or by another government entity authorized to issue such an order for a HUD employee subject to official processing by HUD. Copies of judicial hardcopy correspondence are kept in locked cabinets.

Note: This system of record does not cover the Office of Personnel Management (OPM) OPM/GOVT-1 related records: The Official Personnel Folders and other general personnel records files, reports of personnel actions, and the documents and papers required in connection with actions affected during an employee's Federal service are covered by OPM-1.

AUTHORITY FOR MAINTENANCE OF THE SYSTEM:

The collection of payroll and leave data is required by general recordkeeping statutes, regulations, and executive orders:

5 U.S.C. 6101-6133; 5 U.S.C. 6301-6387; 44 U.S.C. 3101; 5 U.S.C. 5501-5597; 5 CFR part 630; Executive Order 9373, which permits the collection of SSNs, as amended by Executive Order 13478. The collection of garnishment and levy orders is required by: 5 U.S.C. 5520a; 10 U.S.C. 1408; and 42 U.S.C. 659.

PURPOSE(S):

The system includes payroll processing services and any other payroll/personal records and various records reflecting HUD employees' time and attendance and leave status, as well as the allocation of employee time to designated budget account codes. The system of records is also used to prepare related reports to other Federal agencies including the Department of Treasury and the Office of Personnel Management.

HUD's OCHCO operates the Pay and Leave Records of Employees system of records to:

1. Authorize payroll deductions, including but not limited to allotments, charitable contributions, and union dues;

2. Authorize the U.S. Department of the Agriculture's (USDA) National Finance Center (NFC) to calculate pay, maintain leave balances, and issue salary checks;

3. Report gross wages and compensation information, including but not limited to unemployment compensation;

4. Collect indebtedness, including but not limited to overpayment of salary and unpaid Internal Revenue Service (IRS) taxes and/or state taxes;

5. Pay income tax obligations, including but not limited to the Internal Revenue Service (IRS) and states' revenue departments;

6. Pay any uncollected compensation, including but not limited to lump-sum payments of leave upon an employee's separation, such as retirement and resignation, or due to the beneficiaries of a deceased employee;

7. Determine leave balances, including but not limited to accrued and used leave, sick leave, eligibility for and/or authorize donations for the leave transfer program, and other types of leave categories;

ROUTINE USES OF RECORDS MAINTAINED IN THE SYSTEM, INCLUDING CATEGORIES OF USERS AND THE PURPOSES OF SUCH USES:

The data is entered by HUD employees from their location using a time and attendance system located at a Federal agency. The following routine uses are transmittal of data contained in the system of records for time and attendance and payroll processing services such as:

1. To payroll providers, and authorized financial and payroll processing institutions to calculate pay and distribution of wages and distribution of allotments and deductions, some through electronic funds transfer; to maintain leave balances, payroll/personnel action (e.g. promotions and Reduction in Grade personnel actions), receipt amount, and administrative overpayment processing;

2. To the Department of Treasury to authorize issuance of salary payments through electronic funds transfer; processing time and attendance actions under an approved contract or servicing agreement for the purpose relating to the conversion of HUD employee time and attendance recordkeeping services;

3. To the Internal Revenue Service, Social Security Administration, the individual, and taxing authorities of the States, the District of Columbia, territories, possessions, and local governments;

4. To a congressional office in response to a written inquiry from the congressional office made at the request of an individual covered by the system;

5. To charitable institutions to report charitable contributions;

6. To insurance carriers to report employee work elections and information withholdings for health insurance;

7. To the Office of Personnel Management and it contractors concerning pay, benefits, retirement deductions, and other information necessary to carry on its government wide personnel functions, and to other Federal agencies to facilitate employee transfers;

8. To the Department of Labor to process workers' compensation injury claims;

9. To Federal, state, and other authorized agencies for the purpose of collecting debts owed to the Federal government by administrative or salary offset programs;

10. To the Federal Retirement Thrift Investment Board to administer the Thrift Savings Plan;

11. To the Department of Veterans Affairs regarding the final accounting for employee pay and benefits;

12. To Federal, State, and local agencies to assist in the enforcement of child and spousal support obligations;

13. To State governments, the District of Columbia, the Commonwealth of Puerto Rico, and the Virgin Islands to assist in processing unemployment claims under the Unemployment Compensation for Federal Employees Program;

14. To other Federal agencies to provide wage and separation information to another agency as required by law for payroll purposes;

15. To consumer reporting agencies: Disclosures pursuant to 5 U.S.C. 552a (b)(12). Pursuant to 5 U.S.C. 552a(b)(12), disclosures may be made to a consumer reporting agency as defined in the Fair Credit Reporting Act (15. U.S.C. 1681a(f) or the Federal Claims Collection Act of 1966, 31 U.S.C. 3701(a)(3)).

Other Routine Uses include:

1. To appropriate agencies, entities, and persons to the extent such disclosures are compatible with the purpose for which the records in this system were collected, as set forth by Appendix I ²—HUD's Library of Routine Uses published in the Federal Register on (77 FR 41996, July 17, 2012);

² http://portal.hud.gov/hudportal/documents/huddoc?id=append1.pdf.

2. To appropriate agencies, entities, and persons when: a) HUD suspects or has confirmed that the security or confidentiality of information in a system of records has been compromised; b) HUD has determined that as a result of the suspected or confirmed compromise there is a risk of harm to economic or property interests, identity theft or fraud, or harm to the security or integrity of systems or programs (whether maintained by HUD or another agency or entity) that rely upon the compromised information; and c) the disclosure made to such agencies, entities, and persons is reasonably necessary to assist in connection with HUD's efforts to respond to the suspected or confirmed compromise and prevent, minimize, or remedy such harm for purposes of facilitating responses and remediation efforts in the event of a data breach.

POLICIES AND PRACTICES FOR STORING, RETRIEVING, ACCESSING, RETAINING, AND DISPOSING OF RECORDS IN THE SYSTEM:

STORAGE:

Access to the systems is by user ID and password. Roles in the systems limit the user's access once in the system. Hardcopy records are kept in a locked cabinet.

RETRIEVABILITY:

Computerized and hard copy records are retrieved by the individual's name or Social Security Number. Hardcopy records are kept in a locked cabinet.

SAFEGUARDS:

Access to the system is safeguarded by a user ID and password and is restricted to employees who have a need to access the system in the performance of their duties. Within the system the user's roles determine their access to records. Hardcopy records are kept in a locked cabinet.

RETENTION AND DISPOSAL:

All pay and leave records are maintained until employees are separated from HUD and are then retired or transferred to a new employing agency or destroyed in conformance with appropriate General Services Administration retirement and/or destruction Schedules such as the General Records Schedules 2 (GRS 2) in the following manner:

• For Payroll and Leave Records—OCHCO maintains and disposes of these records in accordance with General Records Schedule 2 (GRS 2) issued by the National Archives and Records Administration (NARA). Under the GRS 2, records are retained for various periods. Generally, the records are kept from 1 to 6 years, depending on the type of record involved.

• For Garnishment and Levy of Wages Records—OCHCO retains these records until the expiration of the garnishment or levy order or until the employee leaves, whichever comes first. In some instances that are related to a garnishment or levy order, the information is destroyed 3 years after the termination of the garnishment or levy order.

The disposal of the paper documents, records, and files is by shredding. Backup and Recovery digital media will be destroyed or otherwise rendered irrecoverable per NIST SP 800-88 “Guidelines for Media Sanitization” (September 2006). This complies with all Federal regulations. There are no hardcopy records produced that require additional archival.

SYSTEM MANAGER(S) AND ADDRESS:

Felicia Purifoy, Director, Office of Human Capital Services, Office of the Chief Human Capital Officer; The Payroll System and Process Managers: Brenda Bradley, Pay, Benefits, and Retirement Division (PBRD), Director, Office of the Chief Human Capital Officer; Gaye W. Walker, Supervisory Human Resources Specialist, Office of the Chief Human Capital Officer, located at the Department of Housing and Urban Development, 451 Seventh Street SW., Washington, DC 20410.

NOTIFICATION AND RECORD ACCESS PROCEDURES:

For information, assistance, or inquiries about the existence of records, contact the Chief Privacy Officer, Department of Housing and Urban Development, 451 Seventh Street SW., Room 4156, Washington, DC 20410 (Attention: Capitol View Building, 4th Floor), telephone number: (202) 402-8073. Verification of your identity must include original signature and be notarized. Written request must include the full name, Social Security Number, date of birth, current address, and telephone number of the individual making the request.

CONTESTING RECORD PROCEDURES:

The Department's rules for contesting contents of records and appealing initial denials appear in 24 CFR part 16. Additional assistance may be obtained by contacting: U.S. Department of Housing and Urban Development, Chief Privacy Officer, 451 Seventh Street SW., Washington, DC 20410 (Attention: Capitol View Building, 4th Floor), telephone number: (202) 402-8073 or the HUD Departmental Privacy Appeals Officers, Office of General Counsel, Department of Housing and Urban Development, 451 Seventh Street SW., Washington DC 20410.

RECORD SOURCE CATEGORIES:

Subject individuals; supervisors; timekeepers; official personnel records; previous employers; or other Federal Government agencies; Headquarters or Regional Office personnel responsible for solving pay/leave/time problems; National Finance Center personnel responsible for solving pay/leave/time problems; Field Office personnel who have information about pay/leave problems, banks, other financial institutions, and courts.

SYSTEMS EXEMPTED FROM CERTAIN PROVISIONS OF THE ACT:

None.

[FR Doc. 2014-26095 Filed 10-31-14; 8:45 am]

BILLING CODE 4210-67-P